DEPARTMENT OF ENERGY

Comment Period Extension and Additional Public Scoping Meetings for an Environmental Impact Statement for the Alignment, Construction, and Operation of a Rail Line to a Geologic Repository at Yucca Mountain, Nye County, NV

AGENCY: U.S. Department of Energy.

ACTION: Notice of comment period extension and additional public meetings.

SUMMARY: On April 8, 2004, the U.S. Department of Energy (DOE) published a Notice of Intent (69 FR 18565) announcing its intent to prepare an environmental impact statement (EIS) under the National Environmental Policy Act for the alignment, construction, and operation of a rail line for shipments of spent nuclear fuel, high-level radioactive waste, and other materials from a site near Caliente, Lincoln County, Nevada, to a geologic repository at Yucca Mountain, Nye County, Nevada, and announced three public scoping meetings during a 45-day public comment period ending May 24, 2004. In response to a request from the State of Nevada, DOE is now announcing two additional public meetings, one in Las Vegas, Nevada, and one in Reno, Nevada, and extending the comment period to June 1, 2004.

DATES: The additional public meetings will be held at the following locations and times:

• Las Vegas, Nevada. Las Vegas Yucca Mountain Information Center, 4101 B Meadows Lane, May 10, 2004, from 4-8 p.m.

• Reno, Nevada. University of Nevada-Reno, Lawlor Event Center-Silver and Blue Room, 15th & North Virginia, May 12, 2004, from 4-8 p.m.

The comment period on the Notice of Intent is being extended to June 1, 2004. DOE will consider comments on the proposed scope of the Rail Alignment EIS received after June 1, 2004, to the extent practicable.

ADDRESSES: Written comments on the scope of this Rail Alignment EIS, questions concerning the proposed action and alternatives, requests for maps that illustrate the Caliente corridor and alternatives, or requests for additional information on the Rail Alignment EIS or transportation planning in general should be directed to: Ms. Robin Sweeney, EIS Document Manager, Office of National Transportation, Office of Civilian Radioactive Waste Management, U.S. Department of Energy, 1551 Hillshire Drive, M/S 011, Las Vegas, NV 89134, telephone 1-800-967-3477, or via the Internet at http://www.ocrwm.doe.gov under “What's New.”

Issued in Washington, DC, on April 20, 2004.
Margaret S. Y. Chu,
Director, Office of Civilian Radioactive Waste Management.

[FR Doc. 04-9524 Filed 4-23-04; 8:45 am]

BILLING CODE 6450-01-P